DEPARTMENT OF TRANSPORTATION

Coast Guard

33 CFR Part 165

[CGD01-00-221]

RIN 2115-AA97

Safety Zone: New York Harbor, Western Long Island Sound, East River, and Hudson River Fireworks

AGENCY: Coast Guard, DOT.

ACTION: Final rule.

SUMMARY: The Coast Guard is establishing ten permanent safety zones for fireworks displays located in the Port of New York/New Jersey, expanding the size of one current safety zone, and modifying effective times and notice requirements of existing permanent safety zones. This action is necessary to provide for the safety of life on navigable waters during the events. This action establishes permanent exclusion areas that are only active prior to the start of the fireworks display until shortly after the fireworks display is completed, and is intended to restrict vessel traffic in the affected waterways, expand the effective times of the zones to allow for earlier displays during daylight savings time, and to require one sign that may be used for displays from a barge or onshore.

DATES: This rule is effective April 23, 2001.

ADDRESSES: Comments and material received from the public, as well as documents indicated in this preamble as being available in the docket, are part of docket (CGD01-00-221) and are available for inspection or copying at Waterways Oversight Branch Coast Guard Activities New York, 212 Coast Guard Drive, room 204, between 8 a.m. and 3 p.m., Monday through Friday, except Federal holidays.

FOR FURTHER INFORMATION CONTACT: Lieutenant M. Day, Waterways Oversight Branch, Coast Guard Activities New York, (718) 354-4012.

SUPPLEMENTARY INFORMATION:

Regulatory Information

On December 13, 2000, we published a notice of proposed rulemaking (NPRM) entitled Safety Zone: New York Harbor, Western Long Island Sound, East River, and Hudson River Fireworks in the Federal Register (65 FR 77839). We received no letters commenting on the proposed rule. No public hearing was requested and none was held.

Background and Purpose

The Coast Guard is establishing ten permanent safety zones that will be activated for fireworks displays occurring throughout the year that are not held on an annual basis but are normally held in one of these ten locations. The ten locations are south of Ellis Island, Rockaway Beach, and Rockaway Inlet in New York Harbor, Larchmont Harbor in western Long Island Sound, Pier 16 and Newtown Creek on the East River, Pier 54 and Pier 84, Manhattan, Peekskill Bay, and Jersey City on the Hudson River. The Coast Guard is also expanding the diameter of the current safety zone west of Pier 90, on the Hudson River, to 360 yards from the current 300 yards. The Coast Guard received 17 applications for fireworks displays in these new areas from 1999 to 2000. In 1997, the Coast Guard received four applications for fireworks displays in these locations. In the past, temporary safety zones were established with limited notice for preparation by the U.S. Coast Guard and limited opportunity for public comment. Establishing permanent safety zones by notice and comment rulemaking at least gave the public the opportunity to comment on the zone locations, size, and length of time the zones will be active. The Coast Guard has promulgated safety zones for fireworks displays at all 11 areas in the past and we have not received notice of any impact to waterway traffic resulting from the zones' enaction. Marine traffic will still be able to transit around the safety zones because all of the zones prohibit vessels from entering only the zones themselves. Additionally, vessels will not be precluded from mooring at or getting underway from commercial or recreational piers in the vicinity of the safety zones. This rule will also move the zone effective time back two hours so that zones are enacted beginning at 6 p.m. versus 8 p.m. The safety zone termination time remains the same. Finally, the rule will only require one sign reading “FIREWORKS—STAY AWAY.” The current regulations require a sign that reads “FIREWORKS BARGE” for displays from barges, and a separate sign that reads “FIREWORKS SITE” for displays from shore. The sign dimensions and letter requirements remain the same.

This rule revises 33 CFR 165.168 by adding ten permanent safety zones to the 24 existing ones, expanding the diameter of the safety zone west of Pier 90, on the Hudson River, to 360 yards from the current 300 yards, expanding the effective time of the zones to allow for earlier displays during Daylight Savings Time, and simplifying the requirements for signs used as on-scene notification.

The sizes of these safety zones were determined using National Fire Protection Association and New York City Fire Department standards for 6 to 12 inch mortars fired from a barge, combined with the Coast Guard's knowledge of tide and current conditions in these areas. Barge locations and mortar sizes were adjusted to try and ensure the safety zone locations will not interfere with any known marinas or piers. The earlier effective time for the zones will allow for earlier fireworks displays during Daylight Savings Time. The new sign requirements are to make it easier for the fireworks companies to make on-scene notifications. The 11 safety zones are:

New York Harbor

The first safety zone includes all waters of Upper New York Bay within a 240-yard radius of the fireworks barge in approximate position 40°41′39.9″ N 074°02′33.7″ W (NAD 1983), about 260 yards south of Ellis Island. The safety zone prevents vessels from transiting a portion of Upper New York Bay and is needed to protect boaters from the hazards associated with fireworks launched from a barge in the area. Marine traffic will still be able to transit through Anchorage Channel as it is unaffected by this zone. Additionally, vessels will still be able to anchor in Federal Anchorage No. 20-B, to the north, and 20-C, to the south of the safety zone. The Captain of the Port does not anticipate any negative impact on vessel traffic due to this safety zone.

The second safety zone includes all waters of the Atlantic Ocean within a 360-yard radius of the fireworks barge in approximate position 40°34′28.2″ N 073°50′00.0″ W (NAD 1983), off Beach 116th Street. The safety zone prevents vessels from transiting a portion of the Atlantic Ocean and is needed to protect boaters from the hazards associated with fireworks launched from a barge in the area. Marine traffic will still be able to transit through the Atlantic Ocean near Rockaway Beach. Additionally, vessels will not be precluded from mooring at or getting underway from recreational piers in the vicinity of the zone and there are no commercial facilities in the vicinity of the zone. The Captain of the Port does not anticipate any negative impact on vessel traffic due to this safety zone.

The third safety zone includes all waters of Rockaway Inlet within a 360-yard radius of the fireworks barge in approximate position 40°34′19.1″ N 073°54′43.5″ W (NAD 1983), about 1,200 yards south of Point Breeze. The safety zone prevents vessels from transiting a portion of Rockaway Inlet and is needed to protect boaters from the hazards associated with fireworks launched from a barge in the area. Marine traffic will still be able to transit through Rockaway Inlet. Additionally, vessels will not be precluded from mooring at or getting underway from recreational piers in the vicinity of the zone and there are no commercial facilities in the vicinity of the zone. The Captain of the Port does not anticipate any negative impact on vessel traffic due to this safety zone.

Western Long Island Sound

The safety zone includes all waters of Larchmont Harbor within a 240-yard radius of the fireworks barge in approximate position 40°55′21.8″ N 073°44′21.7″ W (NAD 1983), about 540 yards north of Umbrella Rock. The safety zone prevents vessels from transiting a portion of Larchmont Harbor and is needed to protect boaters from the hazards associated with fireworks launched from a barge in the area. Recreational traffic will still be able to transit through the western 100 yards and eastern 40 yards of the 620-yard wide Larchmont Harbor. There are currently no commercial facilities in Larchmont Harbor. Additionally, vessels will not be precluded from mooring at or getting underway from any piers in the vicinity of the safety zone. The Captain of the Port does not anticipate any negative impact on vessel traffic due to this safety zone.

East River

The first safety zone includes all waters of the East River within a 180-yard radius of the fireworks barge in approximate position 40°42′12.5″ N 074°00′02.0″ W (NAD 1983), about 200 yards east of Pier 16. The safety zone prevents vessels from transiting a portion of the East River and is needed to protect boaters from the hazards associated with fireworks launched from a barge in the area. Vessel traffic will be able to transit through the eastern 140 yards of the 490-yard wide East River during the event. Additionally, vessels will not be precluded from mooring at or getting underway from any piers in the vicinity of the safety zone.

The second safety zone includes all waters of the East River within a 360-yard radius of the fireworks barge in approximate position 40°44′24.0″ N 073°58′00.0″ W (NAD 1983), about 785 yards south of Belmont Island. The safety zone prevents vessels from transiting a portion of the East River and is needed to protect boaters from the hazards associated with fireworks launched from a barge in the area. Recreational and non-deep draft commercial vessel traffic will be able to transit through the western 160 yards of the 910-yard wide East River during the event. This safety zone will close this portion of the East River for vessels that must use the Poorhouse Flats Range. This range marks the area where the 35-foot deep main channel crosses from the west side of the river to the east side of the river. The Poorhouse Flats Range marks the best water in this crossover. But the Coast Guard will minimize any negative impact from this safety zone by ensuring that this zone is not effective during slack tide, which is typically when vessels that must use the Poorhouse Flats Range to transit this portion of the East River. Additionally, vessels will not be precluded from mooring at or getting underway from any piers in the vicinity of the safety zone.

Hudson River

The first safety zone includes all waters of the Hudson River within a 360-yard radius of the fireworks barge in approximate position 40°44′31″ N 074°01′00″ W (NAD 1983), about 380 yards west of Pier 54. The safety zone prevents vessels from transiting a portion of the Hudson River and is needed to protect boaters from the hazards associated with fireworks launched from a barge in the area. Marine traffic will still be able to transit through the western 170 yards of the 885-yard wide Hudson River during the event. Additionally, vessels will not be precluded from mooring at or getting underway from any piers in the vicinity of the safety zone. The Captain of the Port does not anticipate any negative impact on vessel traffic due to this safety zone.

The second safety zone includes all waters of the Hudson River within a 360-yard radius of the fireworks barge in approximate position 40°45′56.9″ N 074°00′25.4″ W (NAD 1983), about 380 yards west of Pier 84. The safety zone prevents vessels from transiting a portion of the Hudson River and is needed to protect boaters from the hazards associated with fireworks launched from a barge in the area. Marine traffic will still be able to transit through the western 165 yards of the 875-yard wide Hudson River during the event. Additionally, vessels will not be precluded from mooring at or getting underway from any piers in the vicinity of the safety zone. The Captain of the Port does not anticipate any negative impact on vessel traffic due to this safety zone.

The third safety zone includes all waters of Peekskill Bay within a 360-yard radius of the fireworks barge in approximate position 41°17′16″ N 073°56′18″ W (NAD 1983), about 670 yards north of Travis Point. The safety zone prevents vessels from transiting a portion of Peekskill Bay and is needed to protect boaters from the hazards associated with fireworks launched from a barge in the area. Marine traffic will still be able to transit through Peekskill Bay Channel during the event. Additionally, vessels will not be precluded from mooring at or getting underway from any piers in the vicinity of the safety zone. The Captain of the Port does not anticipate any negative impact on vessel traffic due to this safety zone.

The fourth safety zone includes all waters of the Hudson River within a 360-yard radius of the fireworks barge in approximate position 40°42′37.3″ N 074°01′41.6″ W (NAD 1983), about 420 yards east of Morris Canal Little Basin. The safety zone prevents vessels from transiting a portion of the Hudson River and is needed to protect boaters from the hazards associated with fireworks launched from a barge in the area. Marine traffic will still be able to transit through the eastern 535 yards of the 1,215-yard wide Hudson River during the event. Additionally, vessels will not be precluded from mooring at or getting underway from any piers in the vicinity of the safety zone. The Captain of the Port does not anticipate any negative impact on vessel traffic due to this safety zone.

The fifth safety zone includes all waters of the Hudson River within a 360-yard radius of the fireworks barge in approximate position 40°46′11.8″ N 074°00′14.8″ W (NAD 1983), about 375 yards west of Pier 90, Manhattan. The safety zone prevents vessels from transiting a portion of the Hudson River and is needed to protect boaters from the hazards associated with fireworks launched from a barge in the area. Marine traffic will still be able to transit through the western 160 yards of the 895-yard wide Hudson River during the event. This will expand the diameter of the current safety zone (§ 165.168(d)(4)) from 300 yards to 360 yards. This expanded safety zone will only be authorized when it will not interfere with vessel traffic at the New York Passenger Ship Terminal. Normally, this safety zone is established in conjunction with a passenger ship arrival or departure from Pier 88, 90, or 92. Additionally, vessels will not be precluded from mooring at or getting underway from any piers in the vicinity of the safety zone. The Captain of the Port does not anticipate any negative impact on vessel traffic due to this safety zone.

The Coast Guard does not know the actual dates that these safety zones will be activated at this time. Coast Guard Activities New York will give notice of the activation of each safety zone by all appropriate means to provide the widest publicity among the affected segments of the public. This will include publication in the Local Notice to Mariners. Marine information and facsimile broadcasts may also be made for these events, beginning 24 to 48 hours before the event is scheduled to begin, to notify the public. The Coast Guard expects that the notice of the activation of each permanent safety zone in this rulemaking will normally be made between thirty and fourteen days before the zone is actually activated. Fireworks barges used in the locations stated in this rulemaking will also have a sign on the port and starboard side of the barge labeled “FIREWORKS—STAY AWAY”. This will provide on-scene notice that the safety zone the fireworks barge is located in is or will be activated on that day. This sign will consist of 10″ high by 1.5″ wide red lettering on a white background. Displays launched from shore sites will have a sign labeled “FIREWORKS—STAY AWAY” with the same size requirements. There will also be a Coast Guard patrol vessel on scene 30 minutes before the display is scheduled to start until 15 minutes after its completion to enforce each safety zone.

The effective period for each safety zone is from 6 p.m. (e.s.t.) to 1 a.m. (e.s.t.). This is two hours earlier than the current regulations and is to allow for earlier fireworks displays during Daylight Savings Time. However, vessels may enter, remain in, or transit through these safety zones during this time frame if authorized by the Captain of the Port New York, or designated Coast Guard patrol personnel on scene, as provided for in 33 CFR 165.23. Generally, blanket permission to enter, remain in, or transit through these safety zones will be given except for the 45-minute period that a Coast Guard patrol vessel is present.

Discussion of Comments and Changes

The Coast Guard received no letters commenting on the proposed rulemaking. No changes were made to this rulemaking.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

We expect the economic impact of this rule to be so minimal that a full Regulatory Evaluation under paragraph 10e of the regulatory policies and procedures of DOT is unnecessary.

This finding is based on the minimal time that vessels will be restricted from the zones, and all of the zones are in areas where the Coast Guard expects insignificant adverse impact on all mariners from the zones' activation. Vessels may also still transit through New York Harbor, western Long Island Sound, the East River, and Hudson River during these events. Vessels will not be precluded from getting underway, or mooring at, any piers or marinas currently located in the vicinity of the safety zones. Advance notifications will also be made to the local maritime community by the Local Notice to Mariners. Marine information and facsimile broadcasts may also be made to notify the public. Additionally, the Coast Guard anticipates that there will only be 18 total activations of these safety zones per year.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of vessels intending to transit or anchor in a portion of New York Harbor, western Long Island Sound, the East River, and Hudson River, during the times these zones are activated.

These safety zones will not have a significant economic impact on a substantial number of small entities for the following reasons: Vessel traffic may transit around all 11 safety zones. Vessels will not be precluded from getting underway, or mooring at, any piers or marinas currently located in the vicinity of the safety zones. Before the effective period, we will issue maritime advisories widely available to users of the Port of New York/New Jersey by local notice to mariners. Marine information and facsimile broadcasts may also be made.

Assistance for Small Entities

Under section 213(a) of the Small Business Regulatory Enforcement Fairness Act of 1996 (Pub. L. 104-121), we offered to assist small entities in understanding the rule so that they could better evaluate its effects on them and participate in the rulemaking process. However, we received no requests for assistance from small entities.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph 34(g), of Commandant Instruction M16475.1C, this rule is categorically excluded from further environmental documentation. This rule fits paragraph 34(g) as it establishes 11 safety zones. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Section 165.168 is amended as follows:

a. Revise the section heading;

b. Revise paragraph (a) introductory text and add paragraphs (a)(7) through (a)(9);

c. Revise paragraph (b) introductory text and add paragraph (b)(10);

d. Revise paragraph (c) introductory text and add paragraphs (c)(3) through (c)(4);

e. Revise paragraph (d) introductory text and (d)(4) and add paragraphs (d)(8) through (d)(11);

f. Revise paragraphs (e) and (f); and

g. Revise Figures (1) through (4).

The additions and revisions read as follows:

§ 165.168 Safety Zones: New York Harbor, Western Long Island Sound, East River, and Hudson River Fireworks.

(a) New York Harbor. Figure 1 of this section displays the safety zone areas in paragraphs (a)(1) through (a)(9).

* * * * *

(7) South Ellis Island Safety Zone: All waters of Upper New York Bay within a 240-yard radius of the fireworks barge in approximate position 40°41′39.9″ N 074°02′33.7″ W (NAD 1983), about 260 yards south of Ellis Island.

(8) Rockaway Beach Safety Zone: All waters of the Atlantic Ocean within a 360 yard radius of the fireworks barge in approximate position 40°34′28.2″ N 073°50′00.0″ W (NAD 1983), off Beach 116th Street.

(9) Rockaway Inlet Safety Zone: All waters of Rockaway Inlet within a 360 yard radius of the fireworks barge in approximate position 40°34′19.1″ N 073°54′43.5″ W (NAD 1983), about 1,200 yards south of Point Breeze.

(b) Western Long Island Sound. Figure 2 of this section displays the safety zone areas in paragraphs (b)(1) through (b)(10).

(10) Larchmont Harbor, Western Long Island Sound Safety Zone: All waters of western Long Island Sound within a 240-yard radius of the fireworks barge in approximate position 40°55′21.8″ N 073°44′21.7″ W (NAD 1983), about 540 yards north of Umbrella Rock.

(c) East River. Figure 3 of this section displays the safety zone areas in paragraphs (c)(1) through (c)(4).

* * * * *

(3) Pier 16, East River Safety Zone: All waters of the East River within a 180-yard radius of the fireworks barge in approximate position 40°42′12.5″ N 074°00′02.0″ W (NAD 1983), about 200 yards east of Pier 16.

(4) Newtown Creek, East River Safety Zone: All waters of the East River within a 360-yard radius of the fireworks barge in approximate position 40°44′24.0″ N 073°58′00.0″ W (NAD 1983), about 785 yards south of Belmont Island.

(d) Hudson River. Figure 4 of this section displays the safety zone areas in paragraphs (d)(1) through (d)(11).

* * * * *

(4) Pier 90, Hudson River Safety Zone: All waters of the Hudson River within a 360-yard radius of the fireworks barge in approximate position 40°46′11.8″N 074°00′14.8″ W (NAD 1983), about 375 yards west of Pier 90, Manhattan.

* * * * *

(8) Pier 54, Hudson River Safety Zone: All waters of the Hudson River within a 360-yard radius of the fireworks barge in approximate position 40°44′31″ N 074°01′00″ W (NAD 1983), about 380 yards west of Pier 54, Manhattan.

(9) Pier 84, Hudson River Safety Zone: All waters of the Hudson River within a 360-yard radius of the fireworks barge in approximate position 40°45′56.9″ N 074°00′25.4″ W (NAD 1983), about 380 yards west of Pier 84, Manhattan.

(10) Peekskill Bay, Hudson River Safety Zone: All waters of Peekskill Bay within a 360-yard radius of the fireworks barge in approximate position 41°17′16″ N 073°56′18″ W (NAD 1983), about 670 yards north of Travis Point.

(11) Jersey City, Hudson River Safety Zone: All waters of the Hudson River within a 360-yard radius of the fireworks barge in approximate position 40°42′37.3″ N 074°01′41.6″ W (NAD 1983), about 420 yards east of Morris Canal Little Basin.

(e) Notification. Coast Guard Activities New York will cause notice of the activation of these safety zones to be made by all appropriate means to effect the widest publicity among the affected segments of the public, including publication in the local notice to mariners, marine information broadcasts, and facsimile. Fireworks barges used in these locations will also have a sign on their port and starboard side labeled “FIREWORKS—STAY AWAY”. This sign will consist of 10″ high by 1.5″ wide red lettering on a white background. Shore sites used in these locations will display a sign labeled “FIREWORKS—STAY AWAY” with the same dimensions.

(f) Effective Period. This section is effective from 6 p.m. (e.s.t.) to 1 a.m. (e.s.t.) each day a barge with a “FIREWORKS—STAY AWAY” sign on the port and starboard side is on-scene or a “FIREWORKS—STAY AWAY” sign is posted in a location listed in paragraphs (a) through (d) of this section. Vessels may enter, remain in, or transit through these safety zones during this time frame if authorized by the Captain of the Port New York or designated Coast Guard patrol personnel on scene.

* * * * *

Dated: March 12, 2001.
R.E. Bennis,
Rear Admiral, U.S. Coast Guard, Captain of the Port, New York.

BILLING CODE 4910-15-P

[FR Doc. 01-7077 Filed 3-21-01; 8:45 am]

BILLING CODE 4910-15-C